DEPARTMENT OF TRANSPORTATION

Federal Highway Administration

Environmental Impact Statement: San Diego County, CA

AGENCY: Federal Highway Administration (FHWA), DOT.

ACTION: Notice of Intent.

SUMMARY: The FHWA is issuing this notice to advise the public that an Environmental Impact Statement (EIS) will be prepared for a proposed highway project in San Diego County, California.

FOR FURTHER INFORMATION CONTACT: Steve Healow, Project Development Engineer, Federal Highway Administration, 650 Capitol Mall, Suite 4-100, Sacramento, California 95814-4708, Telephone: (916) 498-5849, or Jason A. Reynolds, Environmental Analysis-Branch A, at the California Department of Transportation, District 11, 2829 Juan Street, MS 46, San Diego, California 92110, Telephone: (858) 616-6609.

SUPPLEMENTARY INFORMATION: The FHWA, in cooperation with the California Department of Transportation will prepare an environmental Impact Statement (EIS) on a proposed project to upgrade and improve operations on State Route 76, from the vicinity of Melrose Drive to the vicinity of south Mission Road, in San Diego County, California. The proposed improvements would address traffic flow and safety issues by building additional traffic lanes, upgrade the roadway to current design standards, and improve intersections. These improvements are considered necessary to provide for the increase in existing and projected traffic demand. Preliminary alternatives under consideration include: (1) Taking no action; (2) construct improvements along the existing roadway; (3) construct a new alignment to the south; (4) construct a split facility utilizing the existing roadway and the proposed Southern route.

Letters describing the proposed action and soliciting comments will be sent to appropriate Federal, State, and local agencies, and to private organizations and citizens who have previously expressed or are known to have interest in this proposal.

During future project development, prior to draft EIS circulation, a public scoping meeting may be held if significant new circumstances or information arise which bear on the proposed project or its impacts. A public hearing will be held after publication of the draft EIS. Public notice will be given regarding the time and place of the hearing. The draft EIS will be available for public and agency review and comment prior to the public hearing.

To ensure that the full range of issues related to this proposed action are addressed and all significant issues identified, comments, and suggestions are invited from all interested parties. Comments or questions concerning this proposed action and the Draft EIS/EIR should be directed to the FHWA at the provided above.

Issued on: October 19, 2005.
Steve Healow,
FHWA Project Development Engineer, Sacramento, California.

[FR Doc. 05-22514 Filed 11-10-05; 8:45 am]

BILLING CODE 4910-22-M